DEPARTMENT OF TRANSPORTATION

Federal Aviation Administration

14 CFR Part 39

[Docket No. FAA-2016-7415; Directorate Identifier 2015-SW-076-AD]

RIN 2120-AA64

Airworthiness Directives; Airbus Helicopters Deutschland GmbH

AGENCY: Federal Aviation Administration (FAA), DOT.

ACTION: Notice of proposed rulemaking (NPRM).

SUMMARY: We propose to adopt a new airworthiness directive (AD) for Airbus Helicopters Deutschland GmbH (Airbus Helicopters) Model MBB-BK 117 C-2 and MBB-BK 117 D-2 helicopters. This proposed AD would require repetitive visual inspections and a one-time torque of each hydraulic module plate assembly attachment point (attachment point). This proposed AD is prompted by a design reassessment showing the current attachment point design is insufficient in preventing an attachment point failure. The proposed actions are intended to prevent failure of an attachment point, loss of the hydraulic module plate, and subsequent loss of control of the helicopter.

DATES: We must receive comments on this proposed AD by August 22, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2016-7415; or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy, Room 6N-321, Fort Worth, TX 76177.

FOR FURTHER INFORMATION CONTACT: Matt Fuller, Senior Aviation Safety Engineer, Safety Management Group, Rotorcraft Directorate, FAA, 10101 Hillwood Pkwy., Fort Worth, TX 76177; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2015-0210R1, Revision 1, dated October 28, 2015, to correct an unsafe condition for Airbus Helicopters Model MBB-BK117 C-2, MBB-BK117 C-2e, MBB-BK117 D-2, and MBB-BK117 D-2m helicopters. EASA advises that the hydraulic plate assembly on certain MBB-BK117 models has four attachment points on the fuselage secured by a single locking mechanism. According to EASA, a design reassessment revealed stiffness of the hydraulic plate may be insufficient in the event one of the four single locking attachment points fails. EASA states that if this condition is not detected and corrected, it may lead to loss of the hydraulic module plate and possible loss of control of the helicopter. Therefore, the EASA AD requires a repetitive inspection and one-time torque tightening of the attachment points in accordance with Airbus Helicopters' service information. EASA considers its AD an interim action and states further AD action may follow.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information Under 1 CFR Part 51

We reviewed Airbus Helicopters Alert Service Bulletin (ASB) No. ASB MBB-BK117 C-2-29A-003 and Airbus Helicopters ASB No. ASB MBB-BK117 D-2-29A-001, both Revision 0, and both dated October 12, 2015. This service information specifies a repetitive visual inspection for condition and correct installation of the attachment points, and if there is a crack, replacing the affected parts and contacting Airbus Helicopters customer support. This service information also specifies a tightening torque check after the initial inspection and, if torque cannot be applied, replacing the affected parts and contacting Airbus Helicopters customer support.

This service information is reasonably available because the interested parties have access to it through their normal course of business or by the means identified in the ADDRESSES section.

Proposed AD Requirements

This proposed AD would require, within 100 hours time-in-service (TIS) and thereafter at intervals not to exceed 400 hours TIS, performing a visual inspection of each attachment point of the hydraulic module plate assembly for a crack and proper installation. This proposed AD would also require, within 100 hours TIS, applying torque to the nuts of each attachment point.

Differences Between This Proposed AD and the EASA AD

The EASA AD requires contacting Airbus Helicopters customer support when replacing affected parts, and this proposed AD would not.

Interim Action

We consider this proposed AD to be an interim action. Airbus Helicopters is currently developing a modification that will address the unsafe condition identified in this AD. Once this modification is developed, approved, and available, we might consider additional rulemaking.

Costs of Compliance

We estimate that this proposed AD would affect 134 helicopters of U.S. Registry. We estimate that operators may incur the following costs in order to comply with this AD. We estimate the cost of labor at $85 per work-hour.

Visually inspecting the four attachment points would take about 0.75 work-hour for an estimated cost of $64 per helicopter and $8,576 for the U.S. fleet per inspection cycle. Inspecting the torque of the four attachment points would take about 0.25 work-hour an estimated cost of $21 per helicopter and $2,814 for the U.S. fleet. Replacing any of the attachment point parts would take a minimal amount of time and parts would cost about $48 per attachment point.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH: Docket No. FAA-2016-7415; Directorate Identifier 2015-SW-076-AD.

(a) Applicability

This AD applies to Model MBB-BK 117 C-2 and MBB-BK 117 D-2 helicopters with a hydraulic module plate assembly part number B291M0003103 with a single locking attachment point installed, certificated in any category.

(b) Unsafe Condition

This AD defines the unsafe condition as failure of a hydraulic module plate assembly attachment point (attachment point). This condition could result in loss of the hydraulic module plate and subsequent loss of control of the helicopter.

(c) Comments Due Date

We must receive comments by August 22, 2016.

(d) Compliance

You are responsible for performing each action required by this AD within the specified compliance time unless it has already been accomplished prior to that time.

(e) Required Actions

(1) Within 100 hours time-in-service (TIS):

(i) Visually inspect the split pins, castellated nuts, plugs, nuts, and hexagon bolts of each attachment point for a crack and for proper installation by following the Accomplishment Instructions, paragraphs 3.B.1.2.a. through 3.B.1.2.e., of Airbus Helicopters Alert Service Bulletin (ASB) No. ASB MBB-BK117 C-2-29A-003, Revision 0, dated October 12, 2015 (ASB MBB-BK117 C-2-29A-003), or Airbus Helicopters ASB No. ASB MBB-BK117 D-2-29A-001, Revision 0, dated October 12, 2015 (ASB MBB-BK117 D-2-29A-001), as applicable to your model helicopter. Replace any part that has a crack before further flight. If the split pins, castellated nuts, or hexagon bolts are not as depicted in Figure 2 of ASB MBB-BK117 C-2-29A-003 or ASB MBB-BK117 D-2-29A-001, before further flight, properly install them.

(ii) Apply a torque of 9 to 10 Nm to the left-hand and right-hand nuts of each attachment point. If a torque of 9 to 10 Nm cannot be applied, replace the affected nut before further flight.

(2) Thereafter, at intervals not to exceed 400 hours TIS, perform the inspection in paragraph (e)(1)(i) of this AD.

(f) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2015-0210R1, Revision 1, dated October 28, 2015. You may view the EASA AD on the Internet at http://www.regulations.gov in the AD Docket.

(h) Subject

Joint Aircraft Service Component (JASC) Code: 2900, Hydraulic Power System.

Issued in Fort Worth, Texas, on June 9, 2016.
Scott A. Horn,
Acting Manager, Rotorcraft Directorate, Aircraft Certification Service.

[FR Doc. 2016-14470 Filed 6-20-16; 8:45 am]

BILLING CODE 4910-13-P